DEPARTMENT OF THE TREASURY

Customs Service

Termination of Test Regarding Importer Compliance Monitoring Program

AGENCY: United States Customs Service, Department of the Treasury.

ACTION: General notice.

SUMMARY: The Importer Compliance Monitoring Program (ICMP), which allows interested importers to assess their own compliance with Customs laws and regulations, was developed by Customs under its regulatory audit authority and was implemented on a test basis starting in 1998. Customs has determined that the ICMP test should be discontinued in favor of an updated approach to importer self-assessment. This notice advises the public of the termination of the ICMP test.

DATES: The ICMP test will terminate on May 30, 2002.

FOR FURTHER INFORMATION CONTACT: Russell Ugone, Director, Trade Agreements Branch, Regulatory Audit Division (202-927-0728).

SUPPLEMENTARY INFORMATION:

Background

As a consequence of the passage of the Customs Modernization provisions of the North American Free Trade Agreement Implementation Act (Pub. L. 103-182, 107 Stat. 2057), the primary goal of Customs in the trade compliance process has been to maximize importer compliance with U.S. trade laws while, at the same time, facilitating the importation and entry of admissible merchandise. To meet this goal, Customs has made a comprehensive effort to review, improve, and redesign, on an ongoing basis, the trade compliance process using established business practices, re-engineered tools, and new methodologies that improve customer service without compromising the enforcement aspect of the Customs mission.

In order to enable interested importers to participate in a program that would allow them to assess their own compliance with Customs laws and regulations on a continuing basis, Customs on April 24, 1998, published in the Federal Register (63 FR 20442) a notice of a plan to conduct a test regarding the Importer Compliance Monitoring Program (ICMP). The notice stated that the test would involve a limited number of importer participants and would run for a period of one year. On July 23, 2001, Customs published in the Federal Register (66 FR 38344) a notice announcing a second test of the ICMP. This notice invited increased importer participation, made some alterations to the earlier ICMP test procedures, and stated that, if Customs determines to end the program test, reasonable notice of the expiration date would be published in the Federal Register.

Termination of the ICMP Test

Although the notice announcing the second test of the ICMP was published in part in order to increase the participation in the test, participation has remained below the level envisaged by Customs when the test procedures were developed. Customs therefore has determined that the ICMP test should be discontinued in favor of a new program that continues the self-assessment principles of the ICMP but will be an updated approach using new methodologies. This new program, which is called the Importer Self Assessment Program, will be the subject of a separate notice to be published in the Federal Register in the near future.

Accordingly, the ICMP test, as described in the Federal Register on July 23, 2001, will terminate 30 days after publication of this notice in the Federal Register. All testing procedures, reporting requirements and other obligations assumed by importers by virtue of their participation in the ICMP test, and all benefits accruing to importers as a result of their participation in the ICMP test, will cease to apply upon termination of the ICMP test. However, importers are reminded that termination of the ICMP test has no effect on an importer's continuing obligation to comply with all applicable Customs laws and regulations.

Dated: April 24, 2002.
Cynthia A. Covell,
Director, Regulatory Audit Division.

[FR Doc. 02-10560 Filed 4-30-02; 8:45 am]

BILLING CODE 4820-02-P